DEPARTMENT OF AGRICULTURE

Sunshine Act Meeting

AGENCY: Rural Telephone Bank, USDA.

ACTION: Staff Briefing for the Board of Directors.

Time and Date: 2 p.m., Monday, August 9, 2004.

Place: Conference Room 104-A, Jamie L. Whitten Federal Building, U.S. Department of Agriculture, 12th & Jefferson Drive, SW., Washington, DC.

Status: Open.

Matters to be Discussed: 1. Annual retirement of class A stock.

2. Annual class C stock dividend rate.

3. Status of loan loss reserve for FY 2004.

4. Privatization discussion.

5. Administrative and other issues.

ACTION: Board of Directors Meeting.

Time and Date: 9 a.m., Tuesday, August 10, 2004.

Place: Conference Room 104-A, Jamie L. Whitten Federal Building, U.S. Department of Agriculture, 12th & Jefferson Drive, SW., Washington, DC.

Status: Open.

Matters to be Considered: The following matters have been placed on the agenda for the Board of Directors meeting:

1. Call to order.

2. Action on Minutes of the May 14, 2004, board meeting.

3. Secretary's Report on loans approved.

4. Treasurer's Report.

5. Status report on the allowance for loan loss reserve for FY 2004.

6. Consideration of resolution to retire class A stock in FY 2004.

7. Consideration of resolution to set annual class C stock dividend rate.

8. Privatization discussion.

9. Governor's Remarks.

10. Adjournment.

Contact Person for More Information: Roberta D. Purcell, Assistant Governor, Rural Telephone Bank, (202) 720-9554.

Dated: July 28, 2004.
Blaine D. Stockton,
Acting Governor, Rural Telephone Bank.

[FR Doc. 04-17544 Filed 7-28-04; 3:06 pm]

BILLING CODE 3410-15-P